DEPARTMENT OF COMMERCE

National Oceanic and Atmospheric Administration

[I.D. 021903D]

Pacific Fishery Management Council; March 9-14, 2003, Council Meeting

AGENCY: National Marine Fisheries Service (NMFS), National

Oceanic and Atmospheric Administration (NOAA), Commerce.

ACTION: Notice of public meetings and hearing.

SUMMARY: The Pacific Fishery Management Council (Council) and its advisory entities will hold public meetings and a hearing on management issues regarding its fisheries.

DATES: The Council and its advisory entities will meet March 9 to 14, 2003, see SUPPLEMENTARY INFORMATION under Schedule of Ancillary Meetings. The Council will meet on March 11 to 14, from 8 a.m. till the scheduled business is completed. All meetings are open to the public, except that a closed session will be held from 8 a.m. until 10:30 a.m. on March 11.

ADDRESSES: The meetings and the hearing will be held at the Red Lion Hotel Sacramento, 1401 Arden Way, Sacramento, California 95815; telephone: (916) 922-8041.

Council address: Pacific Fishery Management Council, 7700 NE Ambassador Place, Suite 200, Portland, Oregon 97220.

FOR FURTHER INFORMATION CONTACT: Dr. Donald O. McIsaac, Executive Director; telephone: (503) 820-2280 or (866) 806-7204.

SUPPLEMENTARY INFORMATION: The following items are on the Council agenda, but not necessarily in this order:

A.Call to Order

1.Opening Remarks, Introductions,

2.Roll Call

3. Executive Director's Report

4.Approve Agenda

5.Approve June, September and November 2002 Meeting Minutes

B.Salmon Management

1.National Marine Fisheries Service Report

2.Final Scientific and Statistical Committee Methodology Review Recommendations on the Chinook and Coho Fishery Regulation and Assessment Models (FRAM) for 2003 Salmon Management

3.Review of 2002 Fisheries and Summary of 2003 Stock Abundance Estimates

4.Inseason Management Recommendations for Openings Prior to May 1 North of Cape Falcon

5.Identification of Management Objectives and Preliminary Definition of 2003 Salmon Management Options

6.Status of Model Evaluation Workgroup

7.Status of Marking Programs for Selective Fisheries

8.Conservation Objectives for Central Valley Winter and Spring Chinook

9.Council Recommendations for 2003 Management Option Analysis

10.Council Direction for 2003 Management Options (if Necessary)

11.Salmon Hearings Officers

12.Adoption of 2003 Management Options for Public Review

C.Habitat Issues: Essential Fish Habitat Issues

D.Marine Reserves

1.Considerations for Integrating Marine Reserves with Effective Fishery Management

2.Update on Marine Reserves Activities

3.Planning for Federal Waters Portion of the Channel Islands National Marine Sanctuary

E.Groundfish Management: National Marine Fisheries Service Report

F.Pacific Halibut Management

1.National Marine Fisheries Service Report

2.Report on International Pacific Halibut Commission Annual Meeting

3.Public Review Options for the 2003 Incidental Catch Regulations in the Salmon Troll and Fixed Gear Sablefish Fisheries

G.Highly Migratory Species Management

1.National Marine Fisheries Service Report

2.Status of the Pacific Council Highly Migratory Species Fishery Management Plan

H.Administrative and Other Matters

1.Improvements in Meeting National Environmental Policy Act Requirements for Council Action

2.Planning Session on Improving Council Meeting Efficiency

3.Legislative Matters

4.Appointments to Advisory Bodies, Standing Committees, and Other Forums

5.Financial Matters

6.Council Staff Work Load Priorities and Results of Strategic Goals Workshop

7.April 2003 Council Meeting Agenda

I.Coastal Pelagic Species Management

1.National Marine Fisheries Service Report

2.Draft Regulatory Amendment and Analysis for Changes to Sardine Allocation

3.Update on Sardine Stock Assessment Review Process

SCHEDULE OF ANCILLARY MEETINGS

SUNDAY, MARCH 9, 2003

Scientific and Statistical Committee Groundfish and Economic Subcommittees

1 p.m.

Sierra B Room

Klamath Fishery Management Council

2 p.m.

Sierra A Room

MONDAY, MARCH 10, 2003

Council Secretariat

8 a.m.

California Room

Scientific and Statistical Committee

8 a.m.

Sierra B Room

Salmon Advisory Subpanel

8 a.m.

Comstock 2 Room

Salmon Technical Team

8 a.m.

Comstock 3 Room

Habitat Committee

10 a.m.

Klamath Room

Legislative Committee

10 a.m.

Tahoe Room 514

Budget Committee

1 p.m.

Tahoe Room 514

Washington State Delegation

As necessary

Comstock 1 Room

Klamath Fishery Management Council

As necessary

Sierra A Room

Tribal Policy Group

As necessary

Almanor Room 303

Tribal Washington Technical Groups

As necessary

Shasta Room 305

TUESDAY, MARCH 11, 2003

Council Secretariat

7 a.m.

California Room

California State Delegation

7 a.m.

Tahoe Room 514

Oregon State Delegation

7 a.m.

Comstock 2 Room

Scientific and Statistical Committee

8 a.m.

Sierra B Room

Salmon Advisory Subpanel

8 a.m.

Comstock 2 Room

Salmon Technical Team

8 a.m.

Comstock 3 Room

Enforcement Consultants

Immediately after Council session

Tahoe Room 514

Washington State Delegation

As necessary Needed

Comstock 1 Room

Tribal Policy Group

As necessary

Almanor Room 303

Tribal Washington Technical Groups

As necessary

Shasta Room 305

Klamath Fishery Management Council

As necessary

Sierra A Room

WEDNESDAY, MARCH 12, 2003

Council Secretariat

7 a.m.

California Room

California State Delegation

7 a.m.

Tahoe Room 514

Oregon State Delegation

7 a.m.

Comstock 2 Room

Coastal Pelagic Species Advisory Subpanel

8 a.m.

Klamath Room 513

Salmon Advisory Subpanel

8 a.m.

Comstock 2 Room

Salmon Technical Team

8 a.m.

Comstock 3 Room

Enforcement Consultants

As necessary

Tahoe Room 514

Washington State Delegation

As necessary

Comstock 1 Room

Tribal Policy Group

As necessary

Almanor Room 303

Tribal Washington Technical Groups

As necessary

Shasta Room 305

Klamath Fishery Management Council

As necessary

Sierra A Room

THURSDAY, MARCH 13, 2003

Council Secretariat

7 a.m.

California Room

California State Delegation

7 a.m.

Tahoe Room 514

Oregon State Delegation

7 a.m.

Comstock 2 Room

Coastal Pelagic Species Advisory Subpanel

8 a.m.

Klamath Room 513

Salmon Advisory Subpanel

8 a.m.

Comstock 2 Room

Salmon Technical Team

8 a.m.

Comstock 3 Room

Enforcement Consultants

As necessary

Tahoe Room 514

Washington State Delegation

As necessary Needed

Comstock 1 Room

Tribal Policy Group

As necessary

Almanor Room 303

Tribal Washington Technical Groups

As necessary

Shasta Room 305

Klamath Fishery Management Council

As necessary

Sierra A Room

FRIDAY, MARCH 14, 2003

Council Secretariat

7 a.m.

California Room

California State Delegation

7 a.m.

Tahoe Room 514

Oregon State Delegation

7 a.m.

Comstock 2 Room

Salmon Advisory Subpanel

8 a.m.

Comstock 2 Room

Salmon Technical Team

8 a.m.

Comstock 3 Room

Enforcement Consultants

As necessary

Comstock 1 Room

Washington State Delegation

As necessary

Comstock 1 Room

Tribal Policy Group

As necessary

Almanor Room 303

Tribal Washington Technical Groups

As necessary

Shasta Room 305

Although non-emergency issues not contained in this agenda may come before this Council for discussion, those issues may not be the subject of formal Council action during this meeting. Council action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Ms. Carolyn Porter at (503) 820-2280 at least five days prior to the meeting date.

Dated: February 19, 2003.
Theophilus R. Brainerd,
Acting Director, Office of Sustainable Fisheries, National Marine Fisheries Service.

[FR Doc. 03-4329 Filed 2-19-03; 4:34 pm]

BILLING CODE 3510-22-S